DEPARTMENT OF LABOR

Mine Safety and Health Administration

30 CFR Parts 48, 50, and 75

RIN 1219-AB46

Emergency Mine Evacuation

AGENCY: Mine Safety and Health Administration, Labor.

ACTION: Extension of comment period.

SUMMARY: The Mine Safety and Health Administration is extending the comment period for the Emergency Temporary Standard on Emergency Mine Evacuation published on March 9, 2006 (71 FR 12252). This action is in response to a request from the public.

DATES: The comment period will close on June 29, 2006.

FOR FURTHER INFORMATION CONTACT: Patricia W. Silvey, Acting Director; Office of Standards, Regulations, and Variances, MSHA; phone: (202) 693-9440; facsimile: (202) 693-9441; E-mail: Silvey.Patricia@dol.gov.

SUPPLEMENTARY INFORMATION: The Mine Safety and Health Administration (MSHA) received a request to extend the public comment period for 60 days so that interested parties could adequately address issues contained in MSHA's opening statement. MSHA is conducting this rulemaking under the statutory requirement that the Agency must publish the Final Rule no later than December 9, 2006, that is, 9 months following the publication of the ETS. MSHA is granting a 30-day extension of the comment period (from May 30, 2006, to June 29, 2006) to allow all interested parties additional time to provide input into this important rulemaking. The comment period will close on June 29, 2006; MSHA welcomes comment from all interested parties.

Dated: May 18, 2006.
David G. Dye,
Acting Assistant Secretary for Mine Safety and Health.

[FR Doc. 06-4825 Filed 5-22-06; 9:53 am]

BILLING CODE 4510-43-P